FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 012308.

Title: MOL/CMA CGM Japan/USWC Slot Charter Agreement.

Parties: CMA CGM, S.A. and Mitsui O.S.K. Lines, Ltd.

Filing Party: Draughn B. Arbona, Senior Counsel; CMA CGM (America) LLC; 5701 Lake Wright Drive; Norfolk, VA 23502.

Synopsis: The agreement would authorizes CMA CGM to charter space from MOL between ports on the West Coast of the United States, and Japan.

By Order of the Federal Maritime Commission.
Dated: December 5, 2014.
Rachel E. Dickon,
Assistant Secretary.

[FR Doc. 2014-28893 Filed 12-9-14; 8:45 am]

BILLING CODE 6730-01-P